DEPARTMENT OF TRANSPORTATION

Federal Transit Administration

Transfer of Federally Assisted Land or Facility

AGENCY: Federal Transit Administration, DOT.

ACTION: Notice of intent to transfer Federally assisted land or facility.

SUMMARY: Section 5334(g) of the Federal Transit Laws, as codified, 49 U.S.C. 5301, et seq., permits the Administrator of the Federal Transit Administration (FTA) to authorize a recipient of FTA funds to transfer land or a facility to a public body for any public purpose with no further obligation to the Federal government if, among other things, no Federal agency is interested in acquiring the asset for Federal use. Accordingly, FTA is issuing this notice to advise Federal agencies that the Norwalk Transit District (NTD) intends to transfer approximately 2.11 acres of land and improvements thereon at 100 Fairfield Avenue, Norwalk, Connecticut.

EFFECTIVE DATE: Any Federal agency interested in acquiring the parcel of land must notify the FTA Region I Office of its interest by March 14, 2003.

ADDRESSES: Interested parties should notify the Regional Office by writing to Richard H. Doyle, Regional Administrator, Federal Transit Administration, 55 Broadway, Room 921, Cambridge, MA 02142.

FOR FURTHER INFORMATION CONTACT: Richard N. Cole, Director of Operations and Program Management, at 617/494-2395; or Jackie Hathaway, FTA Headquarters Office of Program Management, at 202/366-6106.

SUPPLEMENTARY INFORMATION: Background: 49 U.S.C. 5334(g) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government.

49 U.S.C. 5334(g)(1) Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the government in liquidation and return of the financial interest of the government in the asset, after considering fair market value and other factors; and

(D) Through an appropriate screening or survey process, that there is no interest in acquiring the asset for government use if the asset is a facility or land.

Federal Interest in Acquiring Land or Facility

This document implements the requirements of 49 U.S.C. 5334(g)(1)(D) of the Federal Transit Laws. Accordingly, FTA hereby provides notice of the availability of the assets further described below. Any Federal agency interested in acquiring the affected land and improvements thereon should promptly notify the FTA.

If no Federal agency is interested in acquiring the existing land and improvements thereon, FTA will make certain that the other requirements specified in 49 U.S.C. 5334(g)(1)(A) through (C) are met before permitting the asset to be transferred.

Additional Description of Land or Facility

The property is located at 100 Fairfield Avenue in Norwalk, Connecticut, and contains approximately 2.11 acres of land and a building which is approximately 26,495 square feet. The property has two 10,000 gallon underground fuel tanks and a leak detection system.

The land is of a triangular shape and is situated along exit ramp 14 eastbound of the Connecticut Turnpike, and the building fronts on Cedar Street. The land slopes down from Fairfield Avenue and the Cedar Street properties. The building is approximately 26,495 square feet; it consists of a metal sandwich panel construction with a rubber ballasted roof; and it is fully sprinklered. Almost ⅔ of the building was used for vehicle storage; and as a result, the heating and lighting systems in that area have limited capacity. The space is clear span. The balance of the building was used for a vehicle washer, four maintenance bays, and approximately 3,000 square feet of office space, toilets and showers.

The building is in fair condition but may need painting, a new roof, substantial cleaning and considerable cosmetic work. Fumes from the maintenance and storage area seep into the office area at times; and during extremely wet seasons, there is water seepage in the storage area.

Issued on: February 6, 2003.
Richard H. Doyle,
Regional Administrator.

[FR Doc. 03-3454 Filed 2-11-03; 8:45 am]

BILLING CODE 4910-57-P